DEPARTMENT OF COMMERCE

National Institute of Standards and Technology

Agency Information Collection Activities; Submission to the Office of Management and Budget (OMB) for Review and Approval; Comment Request; Small and Medium-Sized Business Complex Event COVID-19 Survey (Wave 3)

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 22, 2021.

ADDRESSES: Interested persons are invited to submit written comments by mail to Jennifer Helgeson, Research Economist, Jennifer.helgeson@nist.gov or PRAcomments@doc.gov. Please reference “Small and Medium-Sized Business Complex Event COVID-19 Survey (Wave 3)” in the subject line of your comments. Do not submit Confidential Business Information or otherwise sensitive or protected information.

FOR FURTHER INFORMATION CONTACT: Requests for additional information or specific questions related to collection activities should be directed to Jennifer Helgeson, Research Economist, Jennifer.helgeson@nist.gov, or (240) 672-2575.

SUPPLEMENTARY INFORMATION:

I. Abstract

The purpose of this research is to build a dataset that allows longitudinal documentation of (1) the novel resilience-based mitigation actions employed during the COVID-19 pandemic by small- and medium-sized enterprises (SMEs) by sector, (2) challenges in implementing resilience-based mitigation actions, (3) utilization of past strategies and approaches to provide assistance to the current situation, and (4) planned resilience actions and strategies. This is a cross-Department of Commerce (DOC) effort; the offices sponsoring the proposed data collection are the (1) Applied Economics Office (AEO), in NIST's Engineering Laboratory (EL) and (2) the Climate Program Office (CPO), National Oceanic and Atmospheric Association (NOAA). There has been considerable coordination on this effort with Federal agencies and other institutions that directly provide guidance to SMEs. NIST researchers have been actively engaged for over five years in understanding community resilience to natural hazard events and have developed expertise in that area of inquiry, especially as it relates to SME resilience.

A first wave of data collection took place July-August 2020 using the Wave 1 “Compound Risks—SME Recovery from a Pandemic in the Face of Natural Hazard Risks” electronic survey instrument. A second wave of data collection using the Wave 2 “Compound Risks—SME Recovery from a Pandemic in the Face of Natural Hazard Risks” electronic survey instrument took place in December 2020-January 2021.

The Wave 3 semi-structured survey is planned for Spring 2021. This Small- and Medium-Sized Business Complex Event COVID-19 Survey (Wave 3) is critical to the overall data collection effort. As we strive to understand recovery trajectories of SMEs, understanding the mid-term recovery during a Wave 3 provides a detailed picture of how businesses cope with and adapt to disaster circumstances and which decisions may provide the greatest level of resilience across time periods. This collection is expected to provide insight as to how SME owners and managers make decisions in the face of disaster, especially when there is deep uncertainty surrounding their timing and impact, as well as limited resources available to the owner/manager.

There is minimal primary data on business interruption following a large-scale natural hazard event, especially in the period of mid-term recovery. Furthermore, to the best of our knowledge, there is no primary data on planning for natural hazard resilience during a pandemic, which is highly relevant at a time when much of the US faces potential natural disasters as SMEs recover from COVID-19. Furthermore, the opportunity to obtain this type of longitudinal data related to SMEs' complex event experiences is truly unique. There is critical value to this data, as we seek to better understand how SME managers and owners make decisions when facing complex events—both considering them as potential future events and addressing them when they occur.

II. Method of Collection

This collection will take place entirely remotely, using online technology. During the COVID-19 transmission period this is a safe way to collect data. This mode of collection is also cost-effective and allows the researchers to reach a larger audience and a greater geographic spread.

A subset of respondents will take the structured survey element of the semi-structured surveys, which will be conducted via an online survey platform.

Furthermore, renumeration will be offered to respondents. Renumeration is justified due to (1) complex study design and (2) burden on the respondent. (1) The complex study design of this collection requires ongoing participation of various respondents, each of whom is important to the achievement of study goals. Should attrition occur at a higher rate than expected the study goals will not be met. (2) There is burden on the respondent to take time out of their workday managing/operating an SME. There will be equity in the use of renumeration; all respondents will be treated equally with regard to incentives:

III. Data

OMB Control Number: 0693-XXXX.

Form Number(s): None.

Type of Review: New information collection.

Affected Public: Businesses—individual representatives of small and medium-sized enterprises (SMEs).

Estimated Number of Respondents: 1,800; 300 take the full semi-structured survey and 1,500 take the structured survey part of the full semi-structured survey.

Estimated Time per Response: 15 minutes per structured survey (n=1,800); additional 45 minutes for the semi-structured survey add-on (n=300).

Estimated Total Annual Burden Hours: 15 min. × 1,800 = 27,000; 45 min. × 300 = 13,500; Total = 40,500 min. = 675 hours.

Estimated Total Annual Cost to Public: $15 × 300 respondents = $4,500; $5 × 1,500 = $7,500 = Total upper bound expected cost is estimated at $12,000.

Respondent's Obligation: Voluntary.

Legal Authority: None.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-00958 Filed 1-15-21; 8:45 am]

BILLING CODE 3510-13-P